DEPARTMENT OF HEALTH AND HUMAN SERVICES

Administration for Community Living

Notice of Federal Review of the Oklahoma Disability Law Center (ODLC)

AGENCY: Administration for Community Living, HHS.

ACTION: Notice.

SUMMARY: Representatives of the Administration on Intellectual and Developmental Disabilities (AIDD), Administration for Community Living (ACL), will be conducting a federal review of the Oklahoma Disability Law Center (ODLC) on August 16-18, 2016.

AIDD is soliciting comments from interested parties on your experiences with the work, program, and strategies employed by ODLC in meeting the needs of individuals with developmental disabilities and their families in Oklahoma. You are encouraged to share your experiences by way of any of the following methods:

Email: Clare.Barnett@acl.hhs.gov.

Telephone: 202-795-7301.

Mail Comments to: Clare Barnett Huerta, Program Specialist, Administration on Intellectual and Developmental Disabilities, Administration for Community Living, 330 C Street SW., 1st Floor, Washington, DC 20201.

Comments should be received by August 18, 2016 in order to be included in the final report.

FOR FURTHER INFORMATION CONTACT: Clare Barnett Huerta, Administration for Community Living, Administration on Intellectual and Developmental Disabilities, Office of Program Support, 330 C Street SW., 1st Floor, Washington, DC 20201, 202-795-7301.

Dated: June 21, 2016.
Kathy Greenlee,
Administrator & Assistant Secretary for Aging.

[FR Doc. 2016-15313 Filed 6-27-16; 8:45 am]

BILLING CODE 4154-01-P